DEPARTMENT OF TRANSPORTATION

Federal Highway Administration

Notice of Availability of the Draft Environmental Impact Statement for the El Camino Real Roadway Renewal Project, in San Mateo County, California

AGENCY: Federal Highway Administration (FHWA), U.S. Department of Transportation (DOT).

ACTION: Notice of Availability (NOA) of a Draft Environmental Impact Statement (Draft EIS) for the El Camino Real Roadway Renewal Project.

SUMMARY: The Federal Highway Administration (FHWA), on behalf of the California Department of Transportation (Caltrans), is issuing this notice to advise the public that a Draft EIS is available for the El Camino Real Roadway Renewal Project (ECR Project), a proposed highway project on State Route 82 in San Mateo County, California.

DATES: This notice will be accompanied by a minimum 45-day public comment period from June 18, 2021, to August 2, 2021. The deadline for public comments is 5:00 p.m. (PST) on August 2, 2021. Caltrans will be holding an online meeting on Wednesday, July 14, 2021 from 5:30 to 7:30 p.m. In addition, an on-site public meeting will be held on Friday, July 16, 2021 at the Burlingame High School Athletic Field, 1 Mangini Way, Burlingame, California 94010 from 5:30 to 7:30 p.m. The link to the online meeting will be on the project website: https://dot.ca.gov/caltrans-near-me/district-4/d4-projects/d4-san-mateo-82-el-camino-real-project or www.ElCaminoRealProject.com. Through the project website, the public will be able to link to a downloadable version of the Draft EIS, view ECR Project exhibits and simulations of the Build and No Build Alternatives, and access links to previous public outreach materials and presentations. Questions or comments during the online meeting will not be considered public comments on the Draft EIS, but comments will be accepted separately in writing through email at ECRproject@dot.ca.gov or USPS at the address below. Comments received in writing during the public comment period will become part of the ECR Project administrative record and will be addressed in the Final EIS, scheduled for Spring 2022.

The ECR Project setting includes, but is not limited to, the Howard-Ralston Eucalyptus Tree Rows, and other historic resources in the project area that are on, or eligible for, the National Register of Historic Places.

The Draft EIS will disclose the range of alternatives considered, those that were eliminated from further study, and the Build Alternative being considered along with the No Build Alternative. The Draft EIS will summarize the public scoping process, a summary of the public comments received, and information inclusive of those comments. The Draft EIS will disclose potential impacts, including cumulative impacts to environmental resources; avoidance and minimization measures to reduce potential impacts, and proposed mitigation measures to offset environmental impacts.

A public notice of availability for the Draft EIS will be printed in a local newspaper, a copy of which will also be available on the project website. In addition, notifications, such as E-blasts, will be distributed to the public based on information collected during the Notice of Intent (NOI) public scoping process and other outreach efforts, including city, county, and state officials with jurisdiction in the project area. The newspaper ad, E-blasts, and project website will provide information on the on-site and online public meetings. The project website is: www.ElCaminoRealProject.com or https://dot.ca.gov/caltrans-near-me/district-4/d4-projects/d4-san-mateo-82-el-camino-real-project.

The public can submit formal comments on the ECR Project Draft EIS through email at ECRproject@dot.ca.gov, or via USPS at the contact information listed below.

To request the DEIS in alternative formats or alternative language translation services, please call or leave a voicemail message with Alejandro Lopez, Public Information Officer, at (510) 385-6856.

FOR FURTHER INFORMATION CONTACT: For Caltrans: Contact Yolanda Rivas, Senior Environmental Planner, Caltrans District 4, P.O. Box 23660, MS-8B, Oakland, CA 94623-0660, telephone (510) 506-1461, or email yolanda.rivas@dot.ca.gov. For FHWA, contact David Tedrick, telephone (916) 498-5024, or email david.tedrick@dot.gov.

SUPPLEMENTARY INFORMATION: Effective July 1, 2007, the FHWA assigned, and Caltrans assumed, environmental responsibilities for this project pursuant to 23 U.S.C. 327. Caltrans as the assigned National Environmental Policy Act (NEPA) agency, has prepared a Draft EIS on a proposal for 3.6-mile roadway rehabilitation project in San Mateo County, California. The project limits extend from East Santa Inez Avenue in the City of San Mateo to Millbrae Avenue in the City of Millbrae.

The project is needed to address the overall condition of the existing roadway by correcting the following deficiencies: The pavement is currently rated as poor, with moderate alligator cracking and very poor ride quality indicating roadway structural inadequacy; water ponding, and frequent localized flooding occurs due to uneven roadway surfaces and inadequate or impacted drainage systems; pedestrian access is impaired due to lack of updated curb ramps and uneven sidewalks; pedestrian infrastructure is not compliant with state and federal Americans with Disabilities Act requirements; existing sidewalks lack accessible pedestrian signals (APS) systems, countdown pedestrian systems (CPS), high-visibility striping, or current devices; and pavement markings.

The purpose of the project is to preserve and extend the life of the roadway and improve ride quality, improve drainage efficiency to reduce localized flooding, improve visibility for all users, and enhance pedestrian infrastructure by bringing it into compliance with Title II of the Americans with Disabilities Act.

The Draft EIS is considering either taking no action (No Build Alternative) on the 3.6-mile segment of El Camino Real, or proceeding with the Build Alternative with Design Option. The Build Alternative with Design Option would rehabilitate the roadway; upgrade roadway drainage facilities to address localized flooding; and replace sidewalks, install curb ramps, and upgrade traffic signals to meet ADA requirements. The Design Option includes the possibility of keeping utilities overhead or relocating them underground. The potential environmental effects under either option are disclosed in the Draft EIS. Avoidance, minimization, and mitigation measures are also discussed in the Draft EIS.

The only anticipated Federal approval includes a permit under the National Pollutant Discharge Elimination System (NPDES). Other Federal administrative activities include coordination with the Department of the Interior under Section 4(f) of the Department of Transportation Act (1966) and the Advisory Council on Historic Preservation under Section 106 of the National Historic Preservation Act (1966).

Since June 2019, Caltrans has been in consultation under Section 106 of the National Historic Preservation Act to evaluate potential effects to the Howard-Ralston Eucalyptus Tree Rows, a historic property listed on the National Register of Historic Places (NRHP), and to evaluate potential effects to other historic properties determined eligible for the NRHP. Notifications have been sent to appropriate State, tribal governments, local agencies, private organizations, and citizens who have previously expressed or are known to have interest in this proposal.

The project team anticipates reviewing all public comments received during the public comment period. The Draft EIS, which was approved on June 3, 2021, will be available for public and agency review and comment prior to the public meetings to ensure that the full range of issues related to this proposed action are addressed and all significant issues are identified, and comments and suggestions are received from interested parties. Caltrans will respond to all the public comments received in writing during the public comment period in the Final EIS, expected in Spring 2022.

Following circulation for public review and consideration of comments received, Caltrans will issue a combined Final EIS and Record of Decision document unless statutory criteria or practicability considerations preclude such issuance. Comments or questions concerning this proposed action and the Draft EIS should be directed to Caltrans at the address indicated above for further information.

(Catalog of Federal Domestic Assistance Program Number 20.205, Highway Planning and Construction. The regulations implementing Executive Order 12372 regarding intergovernmental consultation on Federal programs and activities apply to this program.)

Issued on: June 8, 2021.
Rodney Whitfield,
Director, Financial Services, Federal Highway Administration, California Division.

[FR Doc. 2021-12342 Filed 6-11-21; 8:45 am]

BILLING CODE 4910-RY-P